DEPARTMENT OF ENERGY

Federal Energy Regulatory Commission

[Docket No. RP04-47-000]

High Island Offshore System, LLC; Notice of Technical Conference

January 16, 2004.

In its Order issued December 24, 2003,¹ the Commission directed that a technical conference be held to investigate High Island Offshore System's proposal to implement a Natural Gas Liquids Bank as part of its tariff.

¹ High Island Offshore System, L.L.

Take notice that a technical conference will be held on Tuesday, February 3, 2004, at 10 a.m., in a room to be designated at the Federal Energy Regulatory Commission, 888 First Street, NE., Washington, DC 20426.

All interested parties and staff are permitted to attend.

Linda Mitry,
Acting Secretary.

[FR Doc. E4-111 Filed 01-23-04; 8:45 am]

BILLING CODE 6717-01-P